NATIONAL SCIENCE FOUNDATION

Meeting

Agency Holding Meeting: National Science Foundation, National Science Board, ad hoc Committee on Nominating for NSB Elections.

Date and Time: May 4, 2005, 11:30 a.m.-12:30 p.m.

Place: National Science Foundation, Room 1225, 4201 Wilson Boulevard, Arlington, VA 22230.

Status: This meeting will be closed to the public.

Agenda: Discussion of candidates for two vacancies on Executive Committee.

For information, contact: Dr. Michael P. Crosby, Executive Officer and NSB Office Director. (703) 292-7000. http://www.nsf.gov/nsb.

Michael P. Crosby,
Executive Officer and NSB Office Director.

[FR Doc. 05-8391 Filed 4-26-05; 8:45 am]

BILLING CODE 7555-01-P